DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-001. Applicant: California Department of Food and Agriculture, 3294 Meadowview Road, Sacramento, CA 95832.

Instrument: Electron Microscope, Model H-7500-1 TEM.

Manufacturer: Hitachi High Technologies Corporation.

Intended Use: The instrument is intended to be used to observe and to record images of plant viruses from crude plant sap, purified virus preparations and in imbedded plant tissues to study and identify new and emerging plant viruses that are important for California agriculture. Application accepted by Commissioner of Customs: January 5, 2005.

Gerald A. Zerdy,
Program Manager, Statutory Import Programs Staff.

[FR Doc. E5-540 Filed 2-8-05; 8:45 am]

BILLING CODE 3510-DS-P